DEPARTMENT OF THE INTERIOR

Fish and Wildlife Service

[FWS-R8-ES-2020-N043; FXES11140800000-190-FF08EVEN00]

Draft Habitat Conservation Plan and Draft Environmental Assessment for Oak Hills Estate, Santa Barbara County, California; Correction

AGENCY: Fish and Wildlife Service, Interior.

ACTION: Notice of availability; request for comments; correction.

SUMMARY: On February 25, 2020, we, the U.S. Fish and Wildlife Service, announced the availability for public comment of a draft habitat conservation plan and associated draft environmental assessment for activities associated with an application for an incidental take permit. Our notice inadvertently did not give the correct contact name and phone number. In this notice, we correct that error.

DATES: Written comments should be received on or before March 26, 2020.

ADDRESSES: Obtaining Documents: You may download documents for review at http://www.fws.gov/ventura/, or you may request copies of the documents by U.S. mail (below) or by phone (see FOR FURTHER INFORMATION CONTACT). Submitting Written Comments: Please send us your written comments using one of the following methods:

• U.S. mail: Stephen P. Henry, Field Supervisor, Ventura Fish and Wildlife Office, U.S. Fish and Wildlife Service, 2493 Portola Road, Suite B, Ventura, CA 93003.

• Email: rachel_henry@fws.gov.

FOR FURTHER INFORMATION CONTACT: Rachel Henry, by phone at 805-677-3312, via the Federal Relay Service at 1-800-877-8339 for TTY assistance, or at the Ventura address (see ADDRESSES).

SUPPLEMENTARY INFORMATION: On February 25, 2020, we, the U.S. Fish and Wildlife Service, announced the availability for public comment of a draft habitat conservation plan and associated draft environmental assessment for activities associated with an application for an incidental take permit under the Endangered Species Act. Our notice inadvertently did not give the correct contact name and phone number in the FOR FURTHER INFORMATION CONTACT section. Please see corrected information above.

Sara Prigan,
Federal Register Liaison.

[FR Doc. 2020-04270 Filed 3-2-20; 8:45 am]

BILLING CODE 4333-15-P